FEDERAL COMMUNICATIONS COMMISSION

47 CFR Part 63

[WC Docket No. 04-36; FCC 09-40]

IP-Enabled Services

AGENCY: Federal Communications Commission

ACTION: Final rule; announcement of effective date.

SUMMARY: The Commission amended part 63 in order to extend to providers of interconnected Voice over Internet Protocol (VoIP) service the discontinuance obligations that apply to domestic non-dominant telecommunications carriers under section 214 of the Communications Act. The amendments to the rules in § 63.60 required Office of Management and Budget approval and the Commission stated previously in its Federal Register publication that it would announce the effective date of the rules when approved. This document announces the effective date of the rules.

DATES: The amendments to 47 CFR 63.60(a) and (f), published on August 7, 2009 (74 FR 39551), were approved by the Office of Management and Budget on December 1, 2009 and are effective March 19, 2010.

FOR FURTHER INFORMATION CONTACT: Rodney McDonald, (202) 418-7513, Wireline Competition Bureau.

SUPPLEMENTARY INFORMATION: The FCC published a document in the Federal Register, 74 FR 39551, August 7, 2009, that sets forth an effective date of September 8, 2009, except for the amendments to §§ 63.60(a) and (f) which affect information collection requirements that are not effective until approved by the Office of Management and Budget (OMB). The document stated that the Commission will publish a document in the Federal Register announcing the effective date of these rules. On December 1, 2009, OMB approved the information collection requirements contained in these rules pursuant to OMB Control No. 3060-0149. Accordingly, the information collection requirements contained in these rules are now effective. The expiration date for the information collection is December 31, 2012.

Federal Communications Commission.
Marlene H. Dortch,
Secretary.

[FR Doc. 2010-6093 Filed 3-18-10; 8:45 am]

BILLING CODE 6712-01-P